DEPARTMENT OF TRANSPORTATION

Maritime Administration

[Docket No. MARAD-2007-27422]

Requested Administrative Waiver of the Coastwise Trade Laws

AGENCY: Maritime Administration, Department of Transportation.

ACTION: Invitation for public comments on a requested administrative waiver of the Coastwise Trade Laws for the vessel MYSTIQUE.

SUMMARY: As authorized by Pub. L. 105-383 and Pub. L. 107-295, the Secretary of Transportation, as represented by the Maritime Administration (MARAD), is authorized to grant waivers of the U.S.-build requirement of the coastwise laws under certain circumstances. A request for such a waiver has been received by MARAD. The vessel, and a brief description of the proposed service, is listed below. The complete application is given in DOT docket MARAD-2007-27422 at http://dms.dot.gov. Interested parties may comment on the effect this action may have on U.S. vessel builders or businesses in the U.S. that use U.S.-flag vessels. If MARAD determines, in accordance with Pub. L. 105-383 and MARAD's regulations at 46 CFR Part 388 (68 FR 23084; April 30, 2003), that the issuance of the waiver will have an unduly adverse effect on a U.S.-vessel builder or a business that uses U.S.-flag vessels in that business, a waiver will not be granted. Comments should refer to the docket number of this notice and the vessel name in order for MARAD to properly consider the comments. Comments should also state the commenter's interest in the waiver application, and address the waiver criteria given in § 388.4 of MARAD's regulations at 46 CFR Part 388.

DATES: Submit comments on or before April 9, 2007.

ADDRESSES: Comments should refer to docket number MARAD-2007-27422. Written comments may be submitted by hand or by mail to the Docket Clerk, U.S. DOT Dockets, Room PL-401, Department of Transportation, 400 7th St., SW., Washington, DC 20590-0001. You may also send comments electronically via the Internet at http://dmses.dot.gov/submit/. All comments will become part of this docket and will be available for inspection and copying at the above address between 10 a.m. and 5 p.m., E.T., Monday through Friday, except Federal holidays. An electronic version of this document and all documents entered into this docket is available on the World Wide Web at http://dms.dot.gov.

FOR FURTHER INFORMATION CONTACT: Joann Spittle, U.S. Department of Transportation, Maritime Administration, MAR-830 Room 7201, 400 7th Street, SW., Washington, DC 20590. Telephone 202-366-5979.

SUPPLEMENTARY INFORMATION: As described by the applicant the intended service of the vessel MYSTIQUE is:

Intended Use: “Sailing tours on San Francisco Bay of up to 12 paying passengers, operating with a licensed Captain; literature given from agencies such as Calif. Conservation Society giving info on ecology & conservation of area navigated & marine life, oceans & wet lands. We plan to burn bio-diesel in our engine to be part of an awareness of emission standards sharing this with passengers, also demonstrating solar, wind & alternative power resources, saltwater conversion to freshwater; bio-degradable products as applied to our vessel & our mission statement. Open & private charters avail. Networking with conservation groups, educating ourselves & the public on bay trips, demonstrating how a sailboat built in 1986 can also upgrade to newer conservation & emission standards all while enjoying the wind power of sailing on the San Francisco Bay. We would like to have “theme” trips targeting specifics in above information, as well as private wedding parties, Historical information also from the working people on the Bay, Bar Pilots, tug boat operators, ship's captains, women maritime sailors —some live some audio.”

Geographic Region: San Francisco Bay, around Alcatraz Island, Angel Island, off city front of San Francisco, viewing the Golden Gate Bridge, Richardson Bay off Sausalito, CA. Picking up at South Beach harbor in San Francisco. Day tours with tourists & local groups wishing to view & learn about the ecology & conservation of our delicate marine life & environment in the bay & oceans & how we all play a part in that ecosystem.

Privacy Act

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

Dated: February 28, 2007.
By order of the Maritime Administrator.
Daron T. Threet,
Secretary, Maritime Administration.

[FR Doc. E7-4212 Filed 3-8-07; 8:45 am]

BILLING CODE 4910-81-P